DEPARTMENT OF ENERGY

[DE-PS07-01ID13965]

Idaho Operations Office; Notice of Availability of Solicitation for Awards of Financial Assistance

AGENCY: Idaho Operations Office, DOE.

ACTION: Notice of availability of solicitation number DE-PS07-01ID13965—Nuclear Engineering Education Research (NEER) Program.

SUMMARY: The U.S. Department of Energy, Idaho Operations Office, is soliciting applications for awards of financial assistance (i.e., grants) for state-of-the-art research that contributes to any of the following eight areas: reactor physics; reactor engineering; nuclear materials research; radiological engineering; radioactive waste management; applied radiation science; nuclear safety and risk analysis; and innovative technologies for next generation reactors, space nuclear power and propulsion applications and the development of new radiation sources. The issuance date of Solicitation Number DE-PS07-01ID13965 will be September 13, 2000. The solicitation is available in its full text will be available on the Internet at the following URL address: http://www.id.doe.gov/doeid/PSD/proc-div.html. The deadline for receipt of applications will be approximately on November 16, 2000.

ADDRESSES: Applications should be submitted to: U.S. Department of Energy, INEEL, ATTN: Marie Warnick, P.O. Box 1625, Mail Stop 3860, Idaho Falls, Idaho 83415-3860.

FOR FURTHER INFORMATION CONTACT: Dallas L. Hoffer, Contract Specialist, hofferdl@id.doe.gov.

SUPPLEMENTARY INFORMATION: The solicitation was issued pursuant to 10 CFR 600.6(b). Eligibility for awards under this Nuclear Engineering Education Research (NEER) Program will be restricted to U.S. colleges and universities with nuclear engineering degree programs or options or an operating research reactor. The purpose of this NEER Program is to (1) support basic research in nuclear engineering; (2) assist in developing nuclear engineering students; and (3) contribute to strengthening the academic community's nuclear engineering infrastructure.

The statutory authority for this program is Public Law 95-91.

Issued in Idaho Falls on September 6, 2000.
Michael L. Adams,
Acting Director, Procurement Services Division.

[FR Doc. 00-23499 Filed 9-12-00; 8:45 am]

BILLING CODE 6450-01-P